Title 3—

The President

Proclamation 10481 of October 21, 2022

United Nations Day, 2022

By the President of the United States of America

A Proclamation

On United Nations Day, we celebrate this institution and its enduring commitment to advancing peace, protecting human rights, and promoting comity between nations and among the broader international community. Since its founding, the United Nations has shown that countries with different histories yet shared purpose can join together to bend the arc of history toward a freer and more just world.

In the past year, United Nations member states have faced daunting challenges: growing food insecurity; the persistent challenge of COVID-19 alongside additional infectious disease outbreaks; inflation; and record heat, floods, and droughts—all of which have threatened lives and livelihoods. In addition, the consequences of Russia's brazen war and attempts to annex Ukrainian territory in violation of international law have reverberated across the globe—not only exacerbating food and refugee crises but also imperiling the very foundation of a stable international rules-based order, for which the United Nations Charter is the cornerstone.

In the face of great upheaval, the United Nations has a critical role to play—defending the Charter, championing human rights, advancing sustainable development, and holding accountable those who violate international law. When Russia invaded Ukraine in February, an overwhelming majority of United Nation member states sent a resounding message unequivocally condemning the war and Russia's policies of fear and coercion. Today, the United Nations and countries around the world are providing life-saving aid to the Ukrainian people, supporting refugees, responding to health emergencies, and affirming Ukraine's right to sovereignty and territorial integrity—core principles of the United Nations Charter. Likewise, the United Nations is playing an essential part in our common effort to address the global challenges of the twenty-first century, including tackling the climate crisis, strengthening global health security and pandemic preparedness and response, advancing human rights and gender equality, and feeding the world.

The United States is determined to continue strengthening its relationships with United Nations member states as we advance an era of relentless diplomacy across the world. We will help developing countries reach their climate goals and make a just transition to clean energy, including by mobilizing funding. We will lead the way in bolstering the global health security architecture by partnering with countries to prevent, detect, and respond to infectious disease threats; strengthening and reforming the World Health Organization; and marshalling resources to support the historic new Financial Intermediary Fund for Pandemic Prevention, Preparedness, and Response at the World Bank.

As the largest financial contributor to the United Nations, the United States is investing in this institution to advance the cause of freedom, equality, opportunity, and dignity everywhere. At the same time, we are committed to strengthening the United Nations internally. Efforts such as structural reforms to make the United Nations more inclusive, effective, and responsive to the needs of all member states, such as by increasing the number of both permanent and non-permanent representatives on the Security Council. This includes permanent seats for those nations we have long supported and permanent seats for countries in Africa and Latin America and the Caribbean.

For almost 80 years, the United Nations has brought member states together to build a better world. Just as the need for this institution was plain in the aftermath of World War II and the atrocities of the Holocaust, its power to stand for liberty over authoritarianism, sovereignty over imperialism, and peace over war remains as vital today. The United Nations reminds us that, as President Truman said, when countries can state their differences, face them, and find common ground, we can author a new era of peace, progress, and hope for all people everywhere.

NOW, THEREFORE, I, JOSEPH R. BIDEN JR., President of the United States of America, by virtue of the authority vested in me by the Constitution and the laws of the United States, do hereby proclaim October 24, 2022, as United Nations Day. I urge the Governors of the United States and its Territories, and the officials of all other areas under the flag of the United States, to observe United Nations Day with appropriate ceremonies and activities.

IN WITNESS WHEREOF, I have hereunto set my hand this twenty-first day of October, in the year of our Lord two thousand twenty-two, and of the Independence of the United States of America the two hundred and forty-seventh.

[FR Doc. 2022-23432

Filed 10-25-22; 8:45 am]

Billing code 3395-F3-P